PENSION BENEFIT GUARANTY CORPORATION

Privacy Act of 1974; Systems of Records

AGENCY: Pension Benefit Guaranty Corporation.

ACTION: Notice of revision of the Categories of Individuals Covered by the System, revision of the Categories of Records in the System, revision of routine uses, revision of the Safeguards, and revision of the Record Source Categories.

SUMMARY: Pursuant to the Privacy Act of 1974, 5 U.S.C. 552a, the Pension Benefit Guaranty Corporation (PBGC) is proposing to make the following changes to PBGC-6, an existing system of records: (1) Revise the Categories of Individuals Covered by the System, (2) revise the Categories of Records in the System, (3) revise an existing routine use, (4) add two new routine uses, (5) revise the Safeguards, and (6) revise the Record Source Categories. PBGC is also proposing to make the following changes to PBGC-9, an existing system of records: (1) Revise the Categories of Records in the System, (2) revise an existing routine use, (3) add a new routine use, and (4) revise the Safeguards.

DATES: Comments must be received on or before February 5, 2016. The revised systems of records described herein will become effective February 22, 2016, without further notice, unless comments result in a contrary determination and a notice is published to that effect.

ADDRESSES: You may submit written comments to PBGC by any of the following methods:

• Federal eRulemaking Portal: http://www.regulations.gov. Follow the Web site instructions for submitting comments.

• Email: reg.comments@pbgc.gov.

• Fax: 202-326-4224.

• Mail or Hand Delivery: Office of the General Counsel, Pension Benefit Guaranty Corporation, 1200 K Street NW., Washington, DC 20005.

Comments received, including personal information provided, will be posted to http://www.pbgc.gov. Copies of comments may also be obtained by writing to Disclosure Division, Office of the General Counsel, Pension Benefit Guaranty Corporation, 1200 K Street, NW., Washington, DC 20005, or calling 202-326-4040 during normal business hours. (TTY and TDD users may call the Federal relay service toll-free at 1-800-877-8339 and ask to be connected to 202-326-4040.)

FOR FURTHER INFORMATION CONTACT: Elizabeth Logan, Attorney, Pension Benefit Guaranty Corporation, Office of the General Counsel, 1200 K Street NW., Washington, DC 20005, 202-326-4400, extension 3004, or Sarah Smith, Attorney, Pension Benefit Guaranty Corporation, Office of the General Counsel, 1200 K Street NW., Washington, DC 20005, 202-326-4400, extension 3171. For access to any of the PBGC's systems of records, contact Camilla Perry, Disclosure Officer, Office of the General Counsel, Disclosure Division, at the above address, 202-326-4040.

SUPPLEMENTARY INFORMATION:

(1) PBGC Is Proposing To Revise the Categories of Individuals Covered by the System for PBGC-6

PBGC is proposing to revise the Categories of Individuals Covered by the System for PBGC-6, Plan Participant and Beneficiary Data—PBGC (last revised at 79 FR 53572 (September 9, 2014)). The section titled Categories of Individuals Covered by the System currently reads, “Participants, alternate payees, and beneficiaries in terminating and terminated pension plans covered ERISA.”

Sometimes individuals who believe that they may be owed benefits from PBGC contact PBGC to inquire about these benefits, and sometimes it is determined that such an individual is not owed any benefit (for reasons such as the individual already received a lump-sum payment or was not a participant in any terminated pension plans for which PBGC is the trustee). Because these individuals are not participants, alternate payees, or beneficiaries, they are not covered by PBGC-6 as it is currently written. This limits PBGC's recordkeeping abilities.

As such, PBGC is proposing to add, “and other individuals who contact PBGC regarding benefits they may be owed from PBGC,” to the end of the current language in the Categories of Individuals Covered by the System. The amended language clarifies that PBGC may also collect information about individuals who are not participants or beneficiaries in a PBGC-trusteed plan for the purpose of determining whether they are owed a benefit from PBGC.

(2) PBGC Is Proposing To Revise the Categories of Records in the System for PBGC-6.

PBGC is proposing to revise the Categories of Records in the System for PBGC-6, Plan Participant and Beneficiary Data—PBGC (last revised at 79 FR 53572 (September 9, 2014)).

Categories of Records in the System currently reads, “Names; addresses; telephone numbers; sex; social security numbers and other Social Security Administration information; dates of birth; dates of hire; salary; marital status; domestic relations orders; time of plan participation; eligibility status; pay status; benefit data, including records of benefit payments made to participants, alternate payees, and beneficiaries in terminating and terminated pension plans covered by ERISA; health-related information; powers of attorney; insurance information where plan benefits are provided by private insurers; pension plan names and numbers; initial and final PBGC determinations (see 29 CFR 4003.21 and 4003.59); and other records relating to debts owed to PBGC.”

To clarify and more accurately describe the records in PBGC-6, PBGC is proposing to add the following additional record categories: Email addresses, dates of death, and employment history.

(3) PBGC Is Proposing To Revise Routine Use 14 for PBGC-6

PBGC is proposing to modify Routine Use 14 for PBGC-6, Plan Participant and Beneficiary Data—PBGC (last revised at 79 FR 53572 (September 9, 2014)).

Currently, Routine Use 14 allows PBGC to provide the names and social security numbers of participants and beneficiaries to the Department of the Treasury, the Department of the Treasury's financial agent, and the Federal Reserve Bank for the purpose of learning which of PBGC's check payees have established electronic debit card accounts used for the electronic deposit of federal benefit payments. PBGC implemented this routine use for a pilot program which PBGC now intends to implement permanently.

PBGC is proposing that Routine Use 14 be modified to read, “Names and social security numbers of participants and beneficiaries may be provided to the Department of the Treasury, the Department of the Treasury's financial agent, and the Federal Reserve Bank for the purpose of learning which of PBGC's check payees have electronic debit card accounts used for the electronic deposit of federal benefit payments, and for establishing electronic debit card accounts for eligible participants and beneficiaries, and for administering payments to participants and beneficiaries who have selected this method of payment.”

The amended routine use will allow PBGC to share information with the Department of the Treasury, its financial agent, and the Federal Reserve Bank, both for the purpose of learning which of PBGC's check payees have electronic debit card accounts, as well as for the purpose of establishing new electronic debit card accounts for eligible participants and beneficiaries.

(4) PBGC Is Proposing To Add Two Routine Uses to PBGC-6

PBGC is proposing to add two new routine uses to PBGC-6, Plan Participant and Beneficiary Data—PBGC (last revised at 79 FR 53572 (September 9, 2014)).

a. Routine Use 17

PBGC seeks to establish a pilot program with the Department of Labor, Employee Benefits Security Administration (EBSA), in which PBGC will share information about missing participants and beneficiaries with EBSA, and EBSA will search for those missing individuals. PBGC is proposing to add a routine use to PBGC-6 to allow PBGC to provide this information to EBSA, and possibly to other private firms and agencies that provide locator services to locate participants and beneficiaries in the future.

PBGC proposes that the new routine use read, “Names, social security numbers, last known addresses, dates of birth and death, amount of benefit, pension plan name, plan EIN/PIN number, name of plan sponsor, and the city and state of the plan sponsor of plan participants and beneficiaries may be disclosed to private firms and agencies that provide locator services (including credit reporting agencies and debt collection firms or agencies), to locate participants and beneficiaries. Such information will be disclosed only if the PBGC has no address for an individual or if mail sent to the individual at the last known address is returned as undeliverable. Disclosure shall be made only under a contract that subjects the firm or agency providing the service and its employees to the criminal penalties of the Privacy Act. The information so disclosed shall be used exclusively pursuant to the terms and conditions of such contract and shall be used solely for the purposes prescribed therein. The contract shall provide that the information so disclosed shall be returned or destroyed at the conclusion of the locating effort.”

The new routine use will allow PBGC to share additional information with EBSA to facilitate its efforts to find missing participants and beneficiaries for PBGC, and will give PBGC flexibility to enter into other similar agreements in the future. Notably, this routine use mirrors existing Routine Use 4 (with proposed revisions incorporated) of PBGC-9. In short, this change enhances PBGC's ability to locate missing participants and beneficiaries that are owed a benefit from PBGC.

b. Routine Use 18

On occasion, PBGC may enter into legal settlement agreements with third parties. As a result of these agreements, PBGC may be required, or choose, to share information from PBGC-6 with third parties covered by or created under these agreements.

To facilitate full performance of such agreements, PBGC is proposing to add a new routine use that reads, “Names, social security numbers, last known addresses, dates of birth and death, employment history, and pay status of individuals covered by legal settlement agreements involving PBGC may be disclosed to entities covered by or created under those agreements.”

The new routine use will allow PBGC to share information with third parties covered by or created under settlement agreements that PBGC has entered into and will enter into in the future.

(5) PBGC Is Proposing To Revise the Safeguards for PBGC-6

PBGC is proposing to revise the Safeguards for PBGC-6, Plan Participant and Beneficiary Data—PBGC (last revised at 79 FR 53572 (September 9, 2014)). The relevant portion of the Safeguards section currently reads, “Paper and electronic records that contain federal tax information are stored separately and are kept in locked file cabinets in areas of restricted access under procedures that meet IRS safeguarding standards.” (The other portions of the Safeguards section are accurate as currently written.)

To clarify and more accurately describe PBGC's safeguards for federal tax information, PBGC is proposing to revise the current language to read, “Paper and electronic records that contain federal tax information are stored under procedures that meet IRS safeguarding standards.”

(6) PBGC Is Proposing To Revise the Record Source Categories for PBGC-6

PBGC is proposing to revise the Record Source Categories for PBGC-6, Plan Participant and Beneficiary Data—PBGC (last revised at 79 FR 53572 (September 9, 2014)). Record Source Categories currently reads, “Plan Administrators; participants, alternate payees, beneficiaries; agents listed on power of attorneys; field benefit administrator offices; the SSA; the FAA; and the IRS.”

Sometimes individuals who believe that they may be owed benefits from PBGC contact PBGC to inquire about these benefits, and sometimes it is determined that such an individual is not owed any benefit (for reasons such as the individual already received a lump-sum payment or was not a participant in any terminated pension plans for which PBGC is the trustee). Because these individuals are not participants, alternate payees, or beneficiaries, they are not covered by PBGC-6 as it is currently written. This limits PBGC's recordkeeping abilities.

As such, PBGC is proposing that Record Source Categories be amended to include, “and other individuals who contact PBGC regarding benefits they may be owed from PBGC.” The amended language clarifies that PBGC may also collect information about individuals who are not participants or beneficiaries in a PBGC-trusteed plan for the purpose of determining whether they are owed a benefit from PBGC.

(7) PBGC Is Proposing To Revise the Categories of Records in the System for PBGC-9

PBGC is proposing to revise the Categories of Records in the System for PBGC-9, Unclaimed Pensions—PBGC (last revised at 79 FR 53572 (September 9, 2014)).

Categories of Records in the System currently reads, “Names; social security numbers; addresses; email addresses; telephone numbers; pension plans names; and pension plan numbers.”

To clarify and more accurately describe the records in PBGC-9, PBGC is proposing to add the following additional record categories: Dates of birth and death, employment history, and pay status.

(8) PBGC Is Proposing To Revise Routine Use 4 for PBGC-9

PBGC is proposing to modify Routine Use 4 for PBGC-9, Unclaimed Pensions—PBGC (last revised at 79 FR 53572 (September 9, 2014)).

Currently, Routine Use 4 allows PBGC to provide names, social security numbers, last known addresses, and dates of birth and death to private firms and agencies that provide locator services, including credit reporting agencies and debt collection firms or agencies, to locate participants and beneficiaries. The routine use allows this information to be disclosed when PBGC has no address for an individual or if mail sent to the individual at the last known address is returned as undeliverable.

As discussed above, PBGC seeks to establish a pilot program with the Department of Labor, Employee Benefits Security Administration (EBSA), in which PBGC will share information about missing participants and beneficiaries with EBSA, and EBSA will search for those missing individuals.

To maximize the effectiveness of the EBSA program, and other similar programs that PBGC may engage in at some later date, PBGC is proposing to modify Routine Use 4 to allow PBGC to provide additional information to private firms and agencies that provide locator services to locate participants and beneficiaries. Specifically, PBGC proposes to add, “amount of benefit, pension plan name, plan EIN/PIN number, name of plan sponsor, and the city and state of the plan sponsor of plan participants and beneficiaries,” to the routine use. The amended routine use will allow PBGC to share additional information with EBSA in order to facilitate its efforts to find missing participants and beneficiaries, and will give PBGC flexibility to enter into other similar agreements in the future. In short, this change enhances PBGC's ability to locate missing participants and beneficiaries that are owed a benefit from PBGC.

(9) PBGC Is Proposing To Add a Routine Use to PBGC-9

PBGC is proposing to add a routine use to PBGC-9, Unclaimed Pensions—PBGC (last revised at 79 FR 53572 (September 9, 2014)).

On occasion, PBGC may enter into legal settlement agreements with third parties. As a result of these agreements, PBGC may be required, or choose, to share information from PBGC-9 with third parties covered by or created under these agreements.

To facilitate full performance of such agreements, PBGC is proposing to add a new routine use that reads, “Names, social security numbers, last known addresses, dates of birth and death, employment history, and pay status of individuals covered by legal settlement agreements involving PBGC may be disclosed to entities covered by or created under those agreements.”

Like proposed Routine Use 18 for PBGC-6, this new routine use will allow PBGC to share information with third parties covered by or created under settlement agreements that PBGC has entered into and will enter into in the future.

(10) PBGC Is Proposing To Revise the Safeguards for PBGC-9

PBGC is proposing to revise the Safeguards for PBGC-9, Unclaimed Pensions—PBGC (last revised at 79 FR 53572 (September 9, 2014)).The relevant portion of the Safeguards section currently reads, “Paper and electronic records that contain federal tax information are stored separately and are kept in locked file cabinets in areas of restricted access under procedures that meet IRS safeguarding standards.” (The other portions of the Safeguards section are accurate as currently written.)

To clarify and more accurately describe PBGC's safeguards for federal tax information, PBGC is proposing to revise the current language to read, “Paper and electronic records that contain federal tax information are stored under procedures that meet IRS safeguarding standards.”

Pursuant to 5 U.S.C. 552a(e)(11), interested persons are invited to submit written comments on the proposed updates to PBGC's systems of records. A report on the proposed systems has been sent to Congress and the Office of Management and Budget for their evaluation.

For the convenience of the public, PBGC-6 and PBGC-9 are published in full below with changes italicized.

Issued in Washington, DC this 28 day of December, 2015.
W. Thomas Reeder,
Director, Pension Benefit Guaranty Corporation.

PBGC-6: Plan Participant and Beneficiary Data

System Name:

Plan Participant and Beneficiary Data—PBGC.

Security Classification:

None.

System Location:

PBGC, 1200 K Street NW., Washington, DC 20005, and/or field benefit administrator, plan administrator, and paying agent worksites.

Categories of Individuals Covered by the System:

Participants, alternate payees, beneficiaries in terminating and terminated pension plans covered by ERISA, and other individuals who contact PBGC regarding benefits they may be owed from PBGC.

Categories of Records in the System:

Names; addresses; telephone numbers; email addresses; sex; social security numbers and other Social Security Administration information; dates of birth and death; dates of hire; salary; employment history; marital status; domestic relations orders; time of plan participation; eligibility status; pay status; benefit data, including records of benefit payments made to participants, alternate payees, and beneficiaries in terminating and terminated pension plans covered by ERISA; health-related information; powers of attorney; insurance information where plan benefits are provided by private insurers; pension plan names and numbers; initial and final PBGC determinations (see 29 CFR 4003.21 and 4003.59); and other records relating to debts owed to PBGC.

Authority for Maintenance of the System:

29 U.S.C. 1055, 1056(d)(3), 1302, 1321, 1322, 1322a, 1341, 1342, and 1350; 26 U.S.C. 6103; 29 U.S.C. 1302; 44 U.S.C. 3101; 5 U.S.C. 301.

Purpose(s):

This system of records is maintained for use in determining whether participants, alternate payees, and beneficiaries are eligible for benefits under plans covered by ERISA, determining supplemental payments to be paid to those persons by a party other than PBGC, determining the amounts of benefits to be paid, making benefit payments, collecting benefit overpayments, and complying with statutory and regulatory mandates.

Names, addresses, and telephone numbers are used to survey customers to measure their satisfaction with PBGC's benefit payment services and to track (for follow-up) those who do not respond to surveys.

Routine Uses of Records Maintained in the System, Including Categories of Users and the Purposes of Such Uses:

Information about covered individuals may be disclosed without consent as permitted by the Privacy Act of 1974, 5 U.S.C. 552a(b), and:

1. General Routine Uses G1, G2, G4 through G7, and G9 through G12 apply to this system of records (see Prefatory Statement of General Routine Uses).

2. A record from this system of records may be disclosed to third parties, such as banks, insurance companies, or trustees:

a. To enable these third parties to make or determine benefit payments, or

b. To report to the IRS the amounts of benefits paid (or required to be paid) and taxes withheld.

3. A record from this system of records may be disclosed, in furtherance of proceedings under Title IV of ERISA, to a contributing sponsor (or other employer who maintained the plan), including any predecessor or successor, and any member of the same controlled group.

4. A record from this system of records may be disclosed, upon request for a purpose authorized under Title IV of ERISA, to an official of a labor organization recognized as the current or former collective bargaining representative of the individual about whom a request is made.

5. Payees' names, addresses, telephone numbers, and information related to how PBGC determined that a debt was owed by such payees to the PBGC may be disclosed to the Department of the Treasury or a debt collection agency or firm to collect a claim. Disclosure to a debt collection agency or firm shall be made only under a contract issued by the federal government that binds any such contractor or employee of such contractor to the penalties of the Privacy Act. The information so disclosed shall be used exclusively pursuant to the terms and conditions of such contract and shall be used solely for the purposes prescribed therein. The contract shall provide that the information so disclosed shall be returned at the conclusion of the debt collection effort.

6. The name and social security number of a participant employed or formerly employed as a pilot by a commercial airline may be disclosed to the Federal Aviation Administration (FAA) to obtain information relevant to the participant's eligibility or continued eligibility for disability benefits.

7. The name of a participant's pension plan, the actual or estimated amount of a participant's benefit under Title IV of ERISA, the form(s) in which the benefit is payable, and whether the participant is currently receiving benefit payments under the plan or (if not) the earliest date(s) such payments could commence may be disclosed to the participant's spouse, former spouse, child, or other dependent solely to obtain a qualified domestic relations order under 29 U.S.C. 1056(d) and 26 U.S.C. 414(p). The PBGC will disclose the information only upon the receipt of a written request by a prospective alternate payee, or the payee's representative, that describes the requester's relationship to the participant and states that the information will be used solely to obtain a qualified domestic relations order under state domestic relations law. The PBGC will notify the participant of any information disclosed to a prospective alternate payee or their representative under this routine use.

8. Information from a participant's initial determination under 29 CFR 4003.1(b) (excluding the participant's address, telephone number, social security number, and any sensitive medical information) may be disclosed to an alternate payee, or their representative, under a qualified domestic relations order issued pursuant to 29 U.S.C. 1056(d) and 26 U.S.C. 414(p) to explain how the PBGC determined the benefit due the alternate payee so that the alternate payee can pursue an administrative appeal of the benefit determination under 29 CFR 4003.51. The PBGC may notify the participant of the information disclosed to an alternate payee or their representative under this routine use.

9. Information from an alternate payee's initial determination under 29 CFR 4003.1(b) (excluding the alternate payee's address, telephone number, social security number, and any sensitive medical information) may be disclosed to a participant, or their representative, under a qualified domestic relations order issued pursuant to 29 U.S.C. 1056(d) and 26 U.S.C. 414(p) to explain how the PBGC determined the benefit due the participant so that the participant can pursue an administrative appeal of the benefit determination under 29 CFR 4003.51. The PBGC may notify the alternate payee of the information disclosed to a participant or their representative under this routine use.

10. Information used in calculating the benefit, or share of the benefit, of a participant or alternate payee (excluding the participant's or alternate payee's address, telephone number, social security number, and any sensitive medical information) may be disclosed to a participant or an alternate payee, or their representative, when (a) a qualified domestic relations order issued pursuant to 29 U.S.C. 1056(d) and 26 U.S.C. 414(p) affects the calculation of the benefit, or share of the benefit, of the participant or alternate payee; and (b) the information is needed to explain to the participant or alternate payee how the PBGC calculated the benefit, or share of the benefit, of the participant or alternate payee. The PBGC may notify the participant or the alternate payee, or their representative, as appropriate, of the information disclosed to the participant or the alternate payee, or their representative, under this routine use.

11. The names, addresses, social security numbers, dates of birth, and the pension plan name and number of eligible PBGC pension recipients may be disclosed to the Department of the Treasury and the Department of Labor to implement the income tax credit for health insurance costs under 26 U.S.C. 35 and the program for advance payment of the tax credit under 26 U.S.C. 7527.

12. Names, addresses, social security numbers, and dates of birth of eligible PBGC pension recipients residing in a particular state may be disclosed to the state's workforce agency if the agency received a National Emergency Grant from the Department of Labor under the Workforce Investment Act of 1988 to provide health insurance coverage assistance and support services for state residents under 29 U.S.C. 2918(a) and (f).

13. Payees' names, social security numbers, and dates of birth may be provided to the Department of the Treasury's Bureau of the Public Debt, the Social Security Administration, and the Internal Revenue Service to verify payees' eligibility to receive payments.

14. Names and social security numbers of participants and beneficiaries may be provided to the Department of the Treasury, the Department of the Treasury's financial agent, and the Federal Reserve Bank for the purpose of learning which of PBGC's check payees have electronic debit card accounts used for the electronic deposit of federal benefit payments, and for establishing electronic debit card accounts for eligible participants and beneficiaries, and for administering payments to participants and beneficiaries who have selected this method of payment.

15. Information relating to revocation of a power of attorney may be disclosed to the former agent that was named in the revoked power of attorney.

16. The name and date of birth of a participant's beneficiary may be provided to that participant upon request by that participant.

17. Names, social security numbers, last known addresses, dates of birth and death, amount of benefit, pension plan name, plan EIN/PIN number, name of plan sponsor, and the city and state of the plan sponsor of plan participants and beneficiaries may be disclosed to private firms and agencies that provide locator services (including credit reporting agencies and debt collection firms or agencies) to locate participants and beneficiaries. Such information will be disclosed only if the PBGC has no address for an individual or if mail sent to the individual at the last known address is returned as undeliverable. Disclosure shall be made only under a contract that subjects the firm or agency providing the service and its employees to the criminal penalties of the Privacy Act. The information so disclosed shall be used exclusively pursuant to the terms and conditions of such contract and shall be used solely for the purposes prescribed therein. The contract shall provide that the information so disclosed shall be returned or destroyed at the conclusion of the locating effort.

18. Names, social security numbers, last known addresses, dates of birth and death, employment history, and pay status of individuals covered by legal settlement agreements involving PBGC may be disclosed to entities covered by or created under those agreements.

Disclosure to Consumer Reporting Agencies:

Information may be disclosed to a consumer reporting agency in accordance with 31 U.S.C. 3711(e).

Policies and Practices for Storing, Retrieving, Accessing, Retaining, and Disposing of Records in the System:

Storage:

Records are maintained in paper and/or electronic form, including computer databases, magnetic tapes, and discs. Records are also maintained on PBGC's network back-up tapes.

Retrievability:

Records are retrieved by any one or more of the following: name; social security number; customer identification number; date of birth; or date of death.

Safeguards:

The PBGC has adopted appropriate administrative, technical, and physical controls in accordance with PBGC's security program to protect the security, integrity, and availability of the information, and to ensure that records are not disclosed to or accessed by unauthorized individuals.

Paper and electronic records that contain federal tax information are stored under procedures that meet IRS safeguarding standards.

Other paper and microfiche records that do not contain federal tax information are kept in file folders in areas of restricted access that are locked after office hours. Electronic records that do not contain federal tax information are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on other media and computer storage media are destroyed according to the applicable PBGC Information Assurance Handbook guidance on media sanitization practice.

System Manager(s) and Address:

Director, Benefits Administration and Payment Department, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Plan administrators; participants, alternate payees, beneficiaries, and other individuals who contact PBGC regarding benefits they may be owed from PBGC; agents listed on power of attorneys; field benefit administrator offices; the SSA; the FAA; and the IRS.

Exemptions Claimed for the System:

PBGC-9: Unclaimed Pensions

System Name:

Unclaimed Pensions—PBGC.

System Classification:

None.

System Location:

PBGC, 1200 K Street NW., Washington, DC 20005 and/or field benefit administrator, plan administrator, and paying agent worksites.

Categories of Individuals Covered by the System:

Participants, alternate payees, and beneficiaries in terminating and terminated pension plans covered by ERISA.

Categories of Records in the System:

Names; dates of birth and death; social security numbers; addresses; email addresses; telephone numbers; pension plans names; pension plan numbers; employment history; and pay status.

Authority for Maintenance of the System:

29 U.S.C. 1055, 1056(d)(3), 1302, 1321, 1322, 1322a, 1341, 1342, and 1350; 29 U.S.C. 1203; 44 U.S.C. 3101; 5 U.S.C. 310.

Purpose(s):

This system of records is maintained to locate participants, alternate payees, and beneficiaries of pension plans covered by ERISA.

Routine Uses of Records Maintained in the System, Including Categories of Users and the Purposes of Such Uses:

Information about covered individuals may be disclosed without consent as permitted by the Privacy Act of 1974, 5 U.S.C. 552a(b), and:

1. General Routine Uses G1 and G4 through G7, G9 through G11 apply to this system of records (see Prefatory Statement of General Routine Uses).

2. Names and social security numbers of plan participants and beneficiaries may be disclosed to the Internal Revenue Service to obtain current addresses from tax return information and to the Social Security Administration to obtain current addresses. Such information will be disclosed only if the PBGC has no address for an individual or if mail sent to the individual at the last known address is returned as undeliverable.

3. Names and last known addresses may be disclosed to an official of a labor organization recognized as the collective bargaining representative of participants for posting in union halls or for other means of publication to obtain current addresses of participants and beneficiaries. Such information will be disclosed only if the PBGC has no address for an individual or if mail sent to the individual at the last known address is returned as undeliverable.

4. Names, social security numbers, last known addresses, dates of birth and death, amount of benefit, pension plan name, plan EIN/PIN number, name of plan sponsor, and the city and state of the plan sponsor of plan participants and beneficiaries may be disclosed to private firms and agencies that provide locator services, including credit reporting agencies and debt collection firms or agencies, to locate participants and beneficiaries. Such information will be disclosed only if the PBGC has no address for an individual or if mail sent to the individual at the last known address is returned as undeliverable. Disclosure shall be made only under a contract that subjects the firm or agency providing the service and its employees to the criminal penalties of the Privacy Act. The information so disclosed shall be used exclusively pursuant to the terms and conditions of such contract and shall be used solely for the purposes prescribed therein. The contract shall provide that the information so disclosed shall be returned or destroyed at the conclusion of the locating effort.

5. Names and addresses may be disclosed to licensees of the United States Postal Service (“USPS”) to obtain current addresses under the USPS's National Change of Address Linkage System (NCOA). Disclosure shall be made only under a contract that binds the licensee of the Postal Service and its employees to the criminal penalties of the Privacy Act. The contract shall provide that the records disclosed by PBGC shall be used exclusively for updating addresses under NCOA and must be returned to PBGC or destroyed when the process is completed. The records will be exchanged electronically in an encrypted format.

6. Names and last known addresses may be disclosed to other participants in, and beneficiaries under, a pension plan to obtain the current addresses of individuals. Such information will be disclosed only if the PBGC has no address for an individual or if mail sent to the individual at the last known address is returned as undeliverable.

7. Names and last known addresses of participants and beneficiaries, and the names and addresses of participants' former employers, may be disclosed to the public to obtain current addresses of the individuals. Such information will be disclosed to the public only if the PBGC is unable to make benefit payments to the participants and beneficiaries because the address it has does not appear to be current or correct.

8. Names, social security numbers, last known addresses, dates of birth and death, employment history, and pay status of individuals covered by legal settlement agreements involving PBGC may be disclosed to entities covered by or created under those agreements.

Disclosure to Consumer Reporting Agencies:

None.

Policies and Practices for Storing, Retrieving, Accessing, Retaining, and Disposing of Records in the System:

Storage:

Records are maintained in paper and/or in electronic form, including computer databases, magnetic tapes, and discs. Records are also maintained on PBGC's network back-up tapes.

Retrievability:

Records are retrieved by any one or more of the following: Name; social security number; customer identification number; date of birth; or date of death.

Safeguards:

The PBGC has adopted appropriate administrative, technical, and physical controls in accordance with PBGC's security program to protect the security, integrity, and availability of the information, and to ensure that records are not disclosed to unauthorized individuals.

Paper and electronic records that contain federal tax information are stored under procedures that meet IRS safeguarding standards.

Other paper and microfiche records that do not contain federal tax information are kept in file folders in areas of restricted access that are locked after office hours. Electronic records that do not contain federal tax information are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Director, Benefits Administration and Payments Department, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

PBGC-6; the SSA; the IRS; labor organization officials; firms or agencies providing locator services; USPS licensees; field benefit administrator offices; and any other individual that provides PBGC with information regarding a missing participant, beneficiary, or alternate payee.

Exemptions Claimed for the System:

None.

[FR Doc. 2015-33294 Filed 1-5-16; 8:45 am]

BILLING CODE 7709-02-P